DEPARTMENT OF LABOR

Employment and Training Administration

[TA-W-41,469 and TA-W-41,469F]

Telect, Liberty Lake, Washington; Including an Employee of Telect, Liberty Lake, Washington, Located in Maine; Amended Certification Regarding Eligibility To Apply for Worker Adjustment Assistance

In accordance with section 223 of the Trade Act of 1974 (19 U.S.C. 2273) the Department of Labor issued a Certification of Eligibility to Apply for Worker Adjustment Assistance on August 19, 2002, applicable to workers of Telect, Liberty Lake, Washington. The notice was published in the Federal Register on September 10, 2002 (67 FR 57453).

At the request of the State agency, the Department reviewed the certification for workers of the subject firm. New information shows that a worker separation occurred involving an employee of the Liberty Lake, Washington facility of Telect working out of Maine. Ms. Allison O'Flaherty provided administrative support services related to the production of fiber optic patchcords and pigtails at Telect, Liberty Lake, Washington.

Based on these findings, the Department is amending this certification to include an employee of the Liberty Lake, Washington facility of Telect located in Maine.

The intent of the Department's certification is to include all workers of Telect who were adversely affected by increased imports.

The amended notice applicable to TA-W-41,469 is hereby issued as follows:

“All workers of Telect, Liberty Lake, Washington (TA-W-41,469), including an employee of Telect, Liberty Lake, Washington, located in Maine (TA-W-41,469F), who became totally or partially separated from employment on or after April 16, 2001, through August 19, 2004, are eligible to apply for adjustment assistance under Section 223 of the Trade Act of 1974.”

Signed at Washington, DC this 10th day of August 2004.
Linda G. Poole,
Certifying Officer, Division of Trade Adjustment Assistance.

[FR Doc. 04-19101 Filed 8-19-04; 8:45 am]

BILLING CODE 4510-30-P